SECURITIES AND EXCHANGE COMMISSION

17 CFR Part 275

[Release No. IA-2965A; File No. S7-23-07]

RIN 3235-AJ96

Temporary Rule Regarding Principal Trades With Certain Advisory Clients

AGENCY: Securities and Exchange Commission.

ACTION: Final rule; correction.

SUMMARY: On December 30, 2009, the Securities and Exchange Commission published a Federal Register document adopting as final Rule 206(3)-3T under the Investment Advisers Act of 1940, the interim final temporary rule that establishes an alternative means for investment advisers who are registered with the Commission as broker-dealers to meet the requirements of Section 206(3) of the Investment Advisers Act when they act in a principal capacity in transactions with certain of their advisory clients. As adopted, the only change to the rule was the expiration date in paragraph (d) of the section. Rule 206(3)-3T will sunset on December 31, 2010. This document makes a correction to that document.

DATES: Effective December 31, 2009. The DATES section for FR Doc. 2009-30877, published on December 30, 2009 (74 FR 69009) is corrected to read “DATES: The amendments in this document are effective December 30, 2009 and the expiration date for 17 CFR 275.206(3)-3T is extended to December 31, 2010”.

FOR FURTHER INFORMATION CONTACT: Sarah A. Bessin, Assistant Director, Daniel S. Kahl, Branch Chief, or Matthew N. Goldin, Senior Counsel, at (202) 551-6787 or IArules@sec.gov, Office of Investment Adviser Regulation, Division of Investment Management, Securities and Exchange Commission, 100 F Street, NE., Washington, DC 20549-5041.

SUPPLEMENTARY INFORMATION: The Securities and Exchange Commission is correcting the DATES section for FR Doc. 2009-30877, published on December 30, 2009 (74 FR 69009), to read “DATES: The amendments in this document are effective December 20, 2009 and the expiration date for 17 CFR 275.206(3)-3T is extended to December 31, 2010.”

By the Commission.
Dated: December 31, 2009.
Elizabeth M. Murphy,
Secretary.

[FR Doc. E9-31420 Filed 12-31-09; 4:15 pm]

BILLING CODE 8011-01-P